DEPARTMENT OF TRANSPORTATION

Coast Guard

33 CFR Part 165

[COTP Morgan City-02-004]

RIN 2115—AA97

Safety Zone; Gulf Intracoastal Waterway Mile 134.0, Cypremort Point, LA

AGENCY: Coast Guard, DOT.

ACTION: Temporary final rule.

SUMMARY: The Coast Guard is establishing a temporary safety zone 100 feet east and west of the Louisa Bridge on the Gulf Intracoastal Waterway, mile 134.0. This safety zone is needed to protect persons and vessels from the potential safety hazards associated with construction of the new Louisa Bridge in Cypremort Point, Louisiana. Entry into this zone is prohibited unless specifically authorized by the Captain of the Port Morgan City, or his designated representative.

DATES: This rule is effective from 6 a.m. on August 27, 2002 until 11 a.m. on November 7, 2002.

ADDRESSES: Documents indicated in this preamble as being available in the docket, are part of docket [COTP Morgan City-02-004] and are available for inspection or copying at Marine Safety Office Morgan City, 800 David Drive, Morgan City, Louisiana, 70380 between 8 a.m. and 4 p.m., Monday through Friday, except Federal holidays.

FOR FURTHER INFORMATION CONTACT: Lieutenant Junior Grade (LTJG) John Hahn, Marine Safety Office Morgan City, at (985) 380-5377.

SUPPLEMENTARY INFORMATION:

Regulatory Information

We did not publish a notice of proposed rulemaking (NPRM) for this rule. Under 5 U.S.C. 553(b)(B), the Coast Guard finds that good cause exists for not publishing an NPRM, and under 5 U.S.C. 553(d)(3), good cause exists for making this rule effective less than 30 days after publication in the Federal Register. Information was made available to the Coast Guard in insufficient time to publish an NPRM or for publication in the Federal Register 30 days prior to the event. Publishing an NPRM and delaying its effective date would be contrary to public interest since immediate action is needed to protect vessels and mariners from the hazards associated with construction of the new bridge.

Background and Purpose

The Captain of the Port Morgan City is establishing a temporary safety zone extending the entire width of the waterway from 100 feet east of the existing Louisa Bridge to 100 feet west of the bridge. The bridge is located at mile 134.0 of the Gulf Intracoastal Waterway. The Louisiana Department of Transportation and Development is constructing a new Louisa Bridge adjacent to the existing bridge. This construction project includes laying concrete foundations for the new bridge. The safety zone will be enforced on Tuesdays or, in the alternative, Thursdays from 6 a.m. to 11 a.m. while the concrete is being laid. Thursdays will be utilized as make up days if Tuesday operations are cancelled due to weather. The safety zone is needed to protect persons and vessels from the potential safety hazards associated with construction. Entry into this zone is prohibited to all vessels unless authorized by the Captain of the Port Morgan City, or his designated representative.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT) (44 FR 11040, February 26, 1979).

The Coast Guard expects the economic impact of this rule to be so minimal that a full Regulatory Evaluation under paragraph 10(e) of the regulatory policies procedures of DOT is unnecessary. This rule will only be in effect for a short period of time and notifications to the marine community will be made through broadcast notice to mariners. The impacts on routine navigation are expected to be minimal as the zone will only be enforced for a five-hour period each week on Tuesdays or on Thursdays if that Tuesday's operations were cancelled due to inclement weather. Mariners will be updated as to the status of the zone via broadcast notice to mariners.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities for the reasons enumerated under the Regulatory Evaluation above.

If you are a small business entity and are significantly affected by this rule please contact LTJG John Hahn, Marine Safety Office Morgan City, at (985) 380-5377.

Assistance for Small Entities

Under section 213(a) of the Small Business Regulatory Enforcement Fairness Act of 1996 (Public Law 104-121), we offered to assist small entities in understanding the rule so they could better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501—3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we discuss the effects of this rule elsewhere in this preamble.

Taking of Private Property

This rule will not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that Order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this rule and concluded that under figure 2-1, paragraph (34) (g) of Commandant Instruction M16475.1D, this rule is categorically excluded from further environmental documentation. A “Categorical Exclusion Determination” is available for inspection or copying where indicated under ADDRESSES.

List of Subjects in 33 CFR Part 165

Harbors, Marine safety, Navigation (Water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 50 U.S.C. 191; 33 CFR 1.05-1(g), 6.04-1, 6.04-6, and 160.5; 49 CFR 1.46.

2. A new temporary § 165.T08-099 is added to read as follows:

§ 165.T08-099 Safety Zone; Gulf Intracoastal Waterway, Cypremort Point, Louisiana.

(a) Location. The following area is a safety zone: All waters extending the entire width of the waterway from 100 feet east and west of the existing Louisa Bridge, Gulf Intracoastal Waterway, Mile 134, Cypremort Point, Louisiana.

(b) Enforcement period. This section is effective from 6 a.m. on August 27, 2002 to 11 a.m. November 7, 2002. This section will be enforced every Tuesday or, in the event Tuesday's operations are cancelled due to weather, Thursday from 6 a.m. to 11 a.m. beginning August 27, 2002 and ending on November 7, 2002.

(c) Regulations. (1) In accordance with the general regulations in § 165.23 of this part, entry into this zone is prohibited unless authorized by the Captain of the Port Morgan City.

(2) Persons or vessels requiring entry into or passage through the zone must request permission from the Captain of the Port Morgan City, or his designated representative. They may be contacted via VHF Channel 13 or 16, or via telephone at (985) 380-5377.

(3) All persons and vessels shall comply with the instructions of the Captain of the Port Morgan City and designated on-scene U.S. Coast Guard patrol personnel. On-scene U.S. Coast Guard patrol personnel include commissioned, warrant, and petty officers of the U.S. Coast Guard.

Dated: August 20, 2002.
S.P. Garrity,
Captain, U.S. Coast Guard, Captain of the Port Morgan City.

[FR Doc. 02-24445 Filed 9-25-02; 8:45 am]

BILLING CODE 4910-15-P